DEPARTMENT OF ENERGY

Federal Energy Regulatory Commission

Combined Notice of Filings #1

December 8, 2010

Take notice that the Commission received the following electric rate filings:

Docket Numbers: ER10-2589-001.

Applicants: Wisconsin Electric Power Company.

Description: Wisconsin Electric Power Company submits its Formula Rate Wholesale Sales Tariff Compliance Filing, FERC Electric Tariff Volume No 9, pursuant to Order No 714, to be effective 9/10/10.

Filed Date: 12/07/2010.

Accession Number: 20101207-5001.

Comment Date: 5 p.m. Eastern Time on Tuesday, December 28, 2010.

Docket Numbers: ER10-2713-003.

Applicants: PJM Interconnection, L.L.C.

Description: PJM Interconnection, L.L.C. submits tariff filing per 35: Revisions to the PJM Rate Schedules to correct technical and ministerial errors to be effective 9/17/2010.

Filed Date: 12/07/2010.

Accession Number: 20101207-5109.

Comment Date: 5 p.m. Eastern Time on Tuesday, December 28, 2010.

Docket Numbers: ER10-2785-004.

Applicants: Chevron Coalinga Energy Company.

Description: Chevron Coalinga Energy Company submits tariff filing per 35: Chevron Coalinga Energy Company Tariff to be effective 12/7/2010.

Filed Date: 12/08/2010.

Accession Number: 20101208-5002.

Comment Date: 5 p.m. Eastern Time on Wednesday, December 29, 2010.

Docket Numbers: ER11-1873-001.

Applicants: PJM Interconnection, L.L.C., Baltimore Gas and Electric Company.

Description: PJM Interconnection, L.L.C. submits tariff filing per 35.17(b): BG&E submits revisions to 1st Revised Service Agmt No. 871 for technical reasons to be effective 9/17/2010.

Filed Date: 12/08/2010.

Accession Number: 20101208-5001.

Comment Date: 5 p.m. Eastern Time on Wednesday, December 29, 2010.

Docket Numbers: ER11-2131-001.

Applicants: Entergy Arkansas, Inc.

Description: Entergy Arkansas, Inc. submits tariff filing per 35: MSS-3 Corrected Spindletop Compliance Filing to be effective 11/16/2010.

Filed Date: 12/07/2010.

Accession Number: 20101207-5167.

Comment Date: 5 p.m. Eastern Time on Tuesday, December 28, 2010.

Docket Numbers: ER11-2132-001.

Applicants: Entergy Gulf States Louisiana, L.L.C.

Description: Entergy Gulf States Louisiana, L.L.C. submits tariff filing per 35: MSS-3 Corrected Spindletop Compliance Filing to be effective 11/16/2010.

Filed Date: 12/07/2010.

Accession Number: 20101207-5175.

Comment Date: 5 p.m. Eastern Time on Tuesday, December 28, 2010.

Docket Numbers: ER11-2133-001.

Applicants: Entergy Louisiana, LLC.

Description: Entergy Louisiana, LLC submits tariff filing per 35: MSS-3 Corrected Spindletop Compliance Filing to be effective 11/16/2010.

Filed Date: 12/07/2010.

Accession Number: 20101207-5182.

Comment Date: 5 p.m. Eastern Time on Tuesday, December 28, 2010.

Docket Numbers: ER11-2134-001.

Applicants: Entergy Mississippi, Inc.

Description: Entergy Mississippi, Inc. submits tariff filing per 35: MSS-3 Corrected Spindletop Compliance Filing to be effective 11/16/2010.

Filed Date: 12/07/2010.

Accession Number: 20101207-5191.

Comment Date: 5 p.m. Eastern Time on Tuesday, December 28, 2010.

Docket Numbers: ER11-2135-001.

Applicants: Entergy New Orleans, Inc.

Description: Entergy New Orleans, Inc. submits tariff filing per 35: MSS-3 Corrected Spindletop Compliance Filing to be effective 11/16/2010.

Filed Date: 12/07/2010.

Accession Number: 20101207-5204.

Comment Date: 5 p.m. Eastern Time on Tuesday, December 28, 2010.

Docket Numbers: ER11-2310-000.

Applicants: PJM Interconnection, L.L.C.

Description: PJM Interconnection, L.L.C. submits tariff filing per 35: Compliance filing to incorporate previously approved revisions in Docket EL08-47 to be effective 10/26/2010.

Filed Date: 12/08/2010

Accession Number: 20101208-5000.

Comment Date: 5 p.m. Eastern Time on Wednesday, December 29, 2010.

Docket Numbers: ER11-2311-000.

Applicants: Freedom Logistics, LLC.

Description: Freedom Logistics, LLC submits tariff filing per 35.1: Freedom Logistics FERC Tariff to be effective 12/8/2010.

Filed Date: 12/08/2010.

Accession Number: 20101208-5020.

Comment Date: 5 p.m. Eastern Time on Wednesday, December 29, 2010.

Docket Numbers: ER11-2312-000.

Applicants: Electricity Maine, LLC.

Description: Electricity Maine, LLC submits tariff filing per 35.1: Electricity Maine FERC Tariff to be effective 12/8/2010.

Filed Date: 12/08/2010.

Accession Number: 20101208-5021.

Comment Date: 5 p.m. Eastern Time on Wednesday, December 29, 2010.

Docket Numbers: ER11-2313-000.

Applicants: Midwest Independent Transmission System Operator, Inc.

Description: Midwest Independent Transmission System Operator, Inc. submits tariff filing per 35.13(a)(2)(iii): G418 Termination to be effective 2/7/2011.

Filed Date: 12/08/2010.

Accession Number: 20101208-5039.

Comment Date: 5 p.m. Eastern Time on Wednesday, December 29, 2010.

Docket Numbers: ER11-2314-000.

Applicants: City of Pasadena, California.

Description: City of Pasadena, California submits tariff filing per 35.1: Baseline TO Tariff to be effective 12/8/2010.

Filed Date: 12/08/2010.

Accession Number: 20101208-5056.

Comment Date: 5 p.m. Eastern Time on Wednesday, December 29, 2010.

Docket Numbers: ER11-2315-000.

Applicants: Southwest Power Pool, Inc.

Description: Southwest Power Pool, Inc. submits tariff filing per 35.13(a)(2)(iii): Revisions to Clarify Treatment of Load Under Grandfathered Agreements to be effective 12/9/2010.

Filed Date: 12/08/2010.

Accession Number: 20101208-5067.

Comment Date: 5 p.m. Eastern Time on Wednesday, December 29, 2010.

Take notice that the Commission received the following electric securities filings:

Docket Numbers: ES11-9-000.

Applicants: ITC Midwest LLC.

Description: Application of ITC Midwest LLC under Section 204.

Filed Date: 12/07/2010.

Accession Number: 20101207-5210..

Comment Date: 5 p.m. Eastern Time on Tuesday, December 28, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-31841 Filed 12-17-10; 8:45 am]

BILLING CODE 6717-01-P